FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 16, 2013.

A. Federal Reserve Bank of Kansas City (Dennis Denney, Assistant Vice President) 1 Memorial Drive, Kansas City, Missouri 64198-0001:

1. Glory Burns, Fort Collins, Colorado, Robin Isham, Templeton, California, Andrea Voss, Chadron, Nebraska, Julie Jennings, Lone Tree, Colorado, and R. Will Isham, Gordon, Nebraska, individually and as trustees of the E. Joy Isham Irrevocable Trust, and the RWI Marital Deduction Testamentary Trust, both of Gordon, Nebraska, all as members of the Isham Family Group, to retain voting shares of Isham Management Company, and thereby indirectly retain voting shares of The First National Bank of Gordon, both in Gordon, Nebraska.

Board of Governors of the Federal Reserve System, September 26, 2013.
Margaret McCloskey Shanks,
Deputy Secretary of the Board.

[FR Doc. 2013-23936 Filed 10-1-13; 8:45 am]

BILLING CODE 6210-01-P